DEPARTMENT OF EDUCATION

Applications for New Awards; Indian Education Discretionary Grant Programs—Demonstration Grants for Indian Children and Youth Program

AGENCY: Office of Elementary and Secondary Education, Department of Education.

ACTION: Notice.

SUMMARY: The Department of Education is issuing a notice inviting applications for new awards for fiscal year (FY) 2020 for Demonstration Grants for Indian Children and Youth Program (Demonstration program), Catalog of Federal Domestic Assistance (CFDA) number 84.299A. This notice relates to the approved information collection under OMB control number 1810-0722.

DATES:

Applications Available: July 17, 2020.

Deadline for Notice of Intent to Apply: August 3, 2020.

Date of Pre-Application Meeting: July 23, 2020 at 2:00 p.m. Eastern Time and July 30, 2020 at 2:00 p.m. Eastern time.

Deadline for Transmittal of Applications: August 31, 2020.

ADDRESSES: For the addresses for obtaining and submitting an application, please refer to our Common Instructions for Applicants to Department of Education Discretionary Grant Programs, published in the Federal Register on February 13, 2019 (84 FR 3768), and available at www.govinfo.gov/content/pkg/FR-2019-02-13/pdf/2019-02206.pdf.

FOR FURTHER INFORMATION CONTACT: Bianca Williams, U.S. Department of Education, 400 Maryland Avenue SW, Room 3W237, Washington, DC 20202-6335. Telephone: (202) 453-5671. Email: bianca.williams@ed.gov.

If you use a telecommunications device for the deaf (TDD) or a text telephone (TTY), call the Federal Relay Service (FRS), toll free, at 1-800-877-8339.

SUPPLEMENTARY INFORMATION:

Full Text of Announcement

I. Funding Opportunity Description

Purpose of Program: The purpose of the Demonstration program is to support projects to develop, test, and demonstrate the effectiveness of services and programs to improve education opportunities and achievement of Indian children and youth.

Priorities: This competition includes one absolute priority and three competitive preference priorities.

In accordance with 34 CFR 75.105(b)(2)(ii), these priorities are from 34 CFR part 263, as revised in the notice of final regulations for this program published elsewhere in this issue of the Federal Register (the NFR). The absolute priority is from 34 CFR 263.21(c)(7); Competitive Preference Priorities 1 and 2 are from 34 CFR 263.21(b)(1) and (2); and Competitive Preference Priority 3 is from 34 CFR 263.21(c)(5).

Absolute Priority: For FY 2020 and any subsequent year in which we make awards from the list of unfunded applications from this competition, this priority is an absolute priority. Under 34 CFR 75.105(c)(3), we consider only applications that meet this priority.

This priority is:

Accessing Choices in Education.

To meet this priority, applicants must propose a project to expand educational choice by enabling a Tribe, or the grantee and its Tribal partner, to select a project focus that meets the needs of their students and enabling parents of Indian students, or the students, to choose education services by selecting the specific service and provider desired.

Competitive Preference Priorities: For FY 2020 and any subsequent year in which we make awards from the list of unfunded applications from this competition, these priorities are competitive preference priorities. Under 34 CFR 75.105(c)(2)(i) we award an additional 11 points to an application that meets Competitive Preference Priority 1, and an additional 5 points to an application that meets Competitive Preference Priority 2; an applicant can receive points under either Competitive Preference Priority 1 or 2, but not both. In addition, we award an additional 5 points to an application that meets Competitive Preference Priority 3. The maximum number of competitive preference priority points is 16.

These priorities are:

Competitive Preference Priority 1: Tribal Lead Applicants. (0 or 11 points)

To meet this priority, an application must be submitted by an Indian Tribe, Indian organization, school funded by the Bureau of Indian Education (BIE-funded school), or Tribal college or university (TCU) that is eligible to participate in the Demonstration Grants program. A group application submitted by a consortium that meets the requirements of 34 CFR 75.127 through 75.129 or submitted by a partnership is eligible to receive the preference only if the lead applicant for the consortium is the Indian Tribe, Indian organization, BIE-funded school, or TCU.

Competitive Preference Priority 2: Tribal Partnership. (0 or 5 points)

To meet this priority, an application must be submitted by a consortium of eligible entities that meets the requirements of 34 CFR 75.127 through 75.129 or submitted by a partnership if the consortium or partnership—(1) Includes an Indian Tribe, Indian organization, BIE-funded school, or TCU; and (2) Is not eligible to receive the preference under Competitive Preference Priority 1.

Competitive Preference Priority 3: Rural Applicants. (0 or 5 points)

To meet this priority, an applicant must propose a project that includes either—(1) A local educational agency (LEA) that is eligible under the Small Rural School Achievement (SRSA) program or the Rural and Low-Income School (RLIS) program authorized under title V, part B of the ESEA; or (2) A BIE-funded school that is located in an area designated with locale code of either 41, 42, or 43 as designated by the National Center for Education Statistics.

Application Requirements: For FY 2020 and any subsequent year in which we make awards from the list of unfunded applications from this competition, applicants must meet the following application requirements, which are from section 6121 of ESEA and 34 CFR 263.22:

(1) General Requirements. The following requirements apply to all applications submitted under this competition. An applicant must include in its application—

(a) A description of how Indian Tribes and parents and families of Indian children and youth have been, and will be, involved in developing and implementing the proposed activities;

(b) Information demonstrating that the proposed project is evidence-based, where applicable, or is based on an existing evidence-based program that has been modified to be culturally appropriate for Indian students;

(c) A description of how the applicant will continue the proposed activities once the grant period is over;

(d) A plan for how the applicant will oversee service providers and ensure that students receive high-quality services under the project;

(e) An assurance that—

(i) Services will be supplemental to the education program provided by local schools attended by the students to be served;

(ii) Funding will be supplemental to existing sources, such as Johnson O'Malley funding; and

(iii) The availability of funds for supplemental special education and related services (i.e., services that are not part of the special education and related services, supplementary aids and services, and program modifications or supports for school personnel that are required to make FAPE available under Part B of the Individuals with Disabilities Education Act (IDEA) to a child with a disability in conformity with the child's IEP or the regular or special education and related aids and services required to make FAPE available under a Section 504 plan, if any) does not affect the right of the child to receive FAPE under Part B of the IDEA or Section 504, and the respective implementing regulations.

(2) Requirements for Non-Tribal Applicants.

(a) For an applicant that is not a Tribe, if 50 percent or more of the total student population of the schools to be served by the project consists of members of one Tribe, documentation that that Tribe is a partner for the proposed project.

(b) For an applicant that is an LEA or State educational agency (SEA) and is not required by Application Requirement (2)(a) to partner with a specific Tribe, documentation that at least one Tribe or Indian organization is a partner for the proposed project.

(3) Requirements for an Applicant Not Proposing a Planning Period. The following requirements apply only to an applicant that does not propose a planning period. Such an applicant must include in its application—

(a) A description of the service selection method required in § 263.25(c), as described in Program Requirement (3) of this notice;

(b) A description of the parent involvement and feedback process required in § 263.25(d), as described in Program Requirement (4) of this notice;

(c) A sample of the written agreement required in § 263.25(e), as described in Program Requirement (5) of this notice;

(d) A description of the process that will be used to choose students to be served required in section 263.25(f), as described in Program Requirement (6) of this notice.

Program Requirements: For FY 2020 and any subsequent year in which we make awards from the list of unfunded applications from this competition, applicants must adhere to the following program requirements from 34 CFR 263.25. Each project must—

(1) Include the following, which are chosen by the grantee, or for LEAs and SEAs, the grantee and its partnering Tribe or Indian organization:

(a) A project focus and specific services that are based on the needs of the local community; and

(b) Service providers;

(2) Include more than one education option from which parents and students may choose, which may include—

(a) Native language, history, or culture courses;

(b) Advanced, remedial, or elective courses, which may be online;

(c) Apprenticeships or training programs that lead to industry certifications;

(d) Concurrent and dual enrollment;

(e) Tuition for private school or home education expenses;

(f) Special education and related services that supplement, and are not part of, the special education and related services, supplementary aids and services, and program modifications or supports for school personnel required to make available a free appropriate public education (FAPE) under Part B of the IDEA to a child with a disability in conformity with the child's individualized education program (IEP) or the regular or special education and related aids and services required to ensure FAPE under Section 504 of the Rehabilitation Act of 1973 (Section 504);

(g) Books, materials, or education technology, including learning software or hardware that are accessible to all children;

(h) Tutoring;

(i) Summer or afterschool education programs, and student transportation needed for those specific programs. Such programs could include instruction in the arts, music, or sports, to the extent that the applicant can demonstrate that such services are culturally related or are supported by evidence that suggests the services may have a positive effect on relevant education outcomes;

(j) Testing preparation and application fees, including for private school and graduating students;

(k) Supplemental counseling services, not to include psychiatric or medical services; or

(l) Other education-related services that are reasonable and necessary for the project;

(3) Provide a method to enable parents and students to select services. Such a method must—

(a) Ensure that funds will be transferred directly from the grantee to the selected service provider; and

(b) Include service providers other than the applicant, although the applicant may be one of the service providers;

(4) Include a parent involvement and feedback process that—

(a) Describes a way for parents to request services or providers that are not currently offered and provide input on services provided through the project, and describes how the grantee will provide parents with written responses within 30 days; and

(b) May include a parent liaison to support the grantee in outreach to parents, inform parents and students of the timeline for the termination of the project, and assist parents and the grantee with the process by which a parent can request services or providers not already specified by the grantee;

(5) Include a written agreement between the grantee and each service provider under the project. Each agreement must include—

(a) A nondiscrimination clause that—

(i) Requires the provider to abide by all applicable non‐discrimination laws with regard to students to be served, e.g., on the basis of race, color, national origin, religion, sex, or disability; and

(ii) Prohibits the provider from discriminating among students who are eligible for services under this program, i.e., that meet the definition of “Indian” in section 6151 of the ESEA, on the basis of affiliation with a particular Tribe;

(b) A description of how the grantee will oversee the service provider and hold the provider accountable for—

(i) The terms of the written agreement; and

(ii) The use of funds, including compliance with generally accepted accounting procedures and Federal cost principles;

(c) A description of how students' progress will be measured; and

(d) A provision for the termination of the agreement if the provider is unable to meet the terms of the agreement;

(6) Include a fair and documented process to choose students to be served, such as a lottery or other transparent criteria (e.g., based on particular types of need), in the event that the number of requests from parents of eligible students or from students for services under the project exceeds the available capacity, with regard to the number or intensity of services offered;

(7) Ensure that—

(a) At least 80 percent of grant funds are used for direct services to eligible students, provided that, if a grantee requests and receives approval for a planning period, not to exceed 12 months, the 80 percent requirement does not apply to that planning period;

(b) Not more than 15 percent of grant funds are used on the service selection method described in Program Requirement (4) or the parent involvement and feedback process described in Program Requirement (5), except in an authorized planning period; and

(c) No grant funds are used to establish or develop the capacity of entities or individuals that are or may become service providers under this project;

(8) For a grantee that receives approval for a planning period, not to exceed 12 months, submit to the Department prior to the end of that period the following documents:

(a) A description of the operational service selection process that meets Program Requirement (3).

(b) A description of the operational parent involvement and feedback process that meets Program Requirement (4).

(c) A sample of the written agreement that meets Program Requirement (5), and a list of providers with whom the grantee has signed written agreements.

(d) A description of the process that will be used to choose students to be served in the event that the demand for services exceeds the available capacity, as described in Program Requirement (6).

Statutory Hiring Preference:

(a) Awards that are primarily for the benefit of Indians are subject to the provisions of section 7(b) of the Indian Self-Determination and Education Assistance Act (Pub. L. 93-638). That section requires that, to the greatest extent feasible, a grantee—

(1) Give to Indians preferences and opportunities for training and employment in connection with the administration of the grant; and

(2) Give to Indian organizations and to Indian-owned economic enterprises, as defined in section 3 of the Indian Financing Act of 1974 (25 U.S.C. 1452(e)), preference in the award of contracts in connection with the administration of the grant.

(b) For purposes of this preference, an Indian is a member of any federally recognized Indian Tribe. Definitions: The following definitions are from 34 CFR 263.20.

Federally supported elementary or secondary school for Indian students means an elementary or secondary school that is operated or funded, through a contract or grant, by the Bureau of Indian Education.

Indian means an individual who is—

(1) A member of an Indian Tribe or band, as membership is defined by the Indian Tribe or band, including any Tribe or band terminated since 1940, and any Tribe or band recognized by the State in which the Tribe or band resides;

(2) A descendant of a parent or grandparent who meets the requirements described in paragraph (1) of this definition;

(3) Considered by the Secretary of the Interior to be an Indian for any purpose;

(4) An Eskimo, Aleut, or other Alaska Native; or

(5) A member of an organized Indian group that received a grant under the Indian Education Act of 1988 as it was in effect on October 19, 1994.

Indian organization means an organization that—

(1) Is legally established—

(i) By Tribal or inter-Tribal charter or in accordance with State or Tribal law; and

(ii) With appropriate constitution, by-laws, or articles of incorporation;

(2) Includes in its purposes the promotion of the education of Indians;

(3) Is controlled by a governing board, the majority of which is Indian;

(4) If located on an Indian reservation, operates with the sanction or by charter of the governing body of that reservation;

(5) Is neither an organization or subdivision of, nor under the direct control of, any institution of higher education or TCU; and

(6) Is not an agency of State or local government.

Parent includes a legal guardian or other person standing in loco parentis (such as a grandparent or stepparent with whom the child lives, or a person who is legally responsible for the child's welfare).

Tribal College or University (TCU) means an accredited college or university within the United States cited in section 532 of the Equity in Educational Land-Grant Status Act of 1994, any other institution that qualifies for funding under the Tribally Controlled College or University Assistance Act of 1978, and the Navajo Community College, authorized in the Navajo Community College Assistance Act of 1978.

Program Authority: 20 U.S.C. 7441.

Applicable Regulations: (a) The Education Department General Administrative Regulations in 34 CFR parts 75, 77, 79, 81, 82, 84, 86, 97, 98, and 99. (b) The Office of Management and Budget Guidelines to Agencies on Governmentwide Debarment and Suspension (Nonprocurement) in 2 CFR part 180, as adopted and amended as regulations of the Department in 2 CFR part 3485. (c) The Uniform Administrative Requirements, Cost Principles, and Audit Requirements for Federal Awards in 2 CFR part 200, as adopted and amended as regulations of the Department in 2 CFR part 3474. (d) The program regulations in 34 CFR part 263.

Note: The open licensing requirement in 2 CFR 3474.20 does not apply to this program.

Note: The regulations in 34 CFR part 79 apply to all applicants except federally recognized Indian Tribes.

Note: The regulations in 34 CFR part 86 apply to institutions of higher education only.

II. Award Information

Type of Award: Discretionary grants.

Estimated Available Funds: $15,000,000.

Contingent upon the availability of funds and the quality of applications, we may make additional awards in subsequent fiscal years from the list of unfunded applications from this competition.

Estimated Range of Awards: $500,000-$1,500,000, depending on the number of students to be served and, if applicable, the per-pupil amount proposed.

Estimated Average Size of Awards: $1,000,000.

Estimated Number of Awards: 15-20.

Note: The Department is not bound by any estimates in this notice.

Project Period: Up to 60 months. We will award grants for an initial period of not more than three years and may renew such grants for an additional period of not more than two years if we find that the grantee is achieving the objectives of the grant.

III. Eligibility Information

1. Eligible Applicants. The following entities, either alone or in a consortium, are eligible under this program:

(a) An SEA.

(b) An LEA.

(c) An Indian Tribe.

(d) An Indian organization.

(e) A federally supported elementary school or secondary school for Indian students.

(f) A TCU.

2. (a) Cost Sharing or Matching: This program does not require cost sharing or matching.

(b) Supplement-Not-Supplant: This program involves supplement-not-supplant funding requirements.

3. Subgrantees: A grantee under this competition may not award subgrants to entities to directly carry out project activities described in its application.

4. Other: Projects funded under this competition should budget for a two-day Project Directors' meeting in Washington, DC during each year of the project period.

IV. Application and Submission Information

1. Application Submission Instructions: Applicants are required to follow the Common Instructions for Applicants to Department of Education Discretionary Grant Programs, published in the Federal Register on February 13, 2019 (84 FR 3768) and available at www.govinfo.gov/content/pkg/FR-2019-02-13/pdf/2019-02206.pdf, which contain requirements and information on how to submit an application.

2. Submission of Proprietary Information: Given the types of projects that may be proposed in applications for the Demonstration program, your application may include business information that you consider proprietary. In 34 CFR 5.11 we define “business information” and describe the process we use in determining whether any of that information is proprietary and, thus, protected from disclosure under Exemption 4 of the Freedom of Information Act (5 U.S.C. 552, as amended).

Because we plan to make successful applications available to the public by posting them on our website, you may wish to request confidentiality of business information.

Consistent with Executive Order 12600, please designate in your application any information that you believe is exempt from disclosure under Exemption 4. In the appropriate Appendix section of your application, under “Other Attachments Form,” please list the page number or numbers on which we can find this information. For additional information please see 34 CFR 5.11(c).

3. Intergovernmental Review: This competition is subject to Executive Order 12372 and the regulations in 34 CFR part 79. However, under 34 CFR 79.8(a), we waive intergovernmental review in order to make awards by the end of FY 2020.

4. Funding Restrictions: Under ESEA section 6121(e), no more than five percent of funds awarded for a grant under this program may be used for administrative purposes, and for grants made using FY 2020 funds this administrative cost cap applies only to direct administrative costs, not indirect costs.

Under 34 CFR 263.25(g), grantees must spend at least 80 percent of their grant funds on direct services to eligible students. If applicants propose a planning period in the first year of the grant, this 80 percent limit does not apply to that period. Grantees are also prohibited from spending more than 15 percent of grant funds on the service selection method or the parent involvement and feedback process, except in a planning period. Grantees are also prohibited from using grant funds to establish or develop the capacity of entities or individuals that are or may become service providers under this project.

5. Recommended Page Limit: The application narrative is where you, the applicant, address the selection criteria that reviewers use to evaluate your application. We recommend that you (1) limit the application narrative to no more than 30 pages and (2) use the following standards:

• A “page” is 8.5″ x 11″, on one side only, with 1″ margins at the top, bottom, and both sides.

• Double space (no more than three lines per vertical inch) all text in the application narrative, including titles, headings, footnotes, quotations, references, and captions, as well as all text in charts, tables, figures, and graphs.

• Use a font that is either 12 point or larger or no smaller than 10 pitch (characters per inch).

• Use one of the following fonts: Times New Roman, Courier, Courier New, or Arial.

The recommended page limit does not apply to the cover sheet; the budget section, including the narrative budget justification; the assurances and certifications; or the one-page abstract, the resumes, the bibliography, the letter(s) of support, or the signed consortium agreement. However, the recommended page limit does apply to all of the application narrative. An application will not be disqualified if it exceeds the recommended page limit.

6. Notice of Intent to Apply: The Department will be able to review grant applications more efficiently if we know the approximate number of applicants that intend to apply. Therefore, we strongly encourage each potential applicant to notify us of their intent to submit an application. To do so, please email the program contact person listed under FOR FURTHER INFORMATION CONTACT with the subject line “Intent to Apply,” and include the applicant's name and a contact person's name and email address. Applicants that do not submit a notice of intent to apply may still apply for funding; applicants that do submit a notice of intent to apply are not bound to apply or bound by the information provided.

V. Application Review Information

1. Selection Criteria: The selection criteria for this competition are from 34 CFR 75.210 and 34 CFR 263.24. The source of each selection criterion, and the maximum score for addressing each criterion and factor within each criterion, is included in parentheses. The maximum score for these criteria is 100 points.

(a) Quality of the project design (25 points). The Secretary considers the following factors in determining the quality of the project design:

(1) The extent to which the project is designed to improve student and parent satisfaction with the student's overall education experience, as measured by pre- and post-project data. (5 points) (34 CFR 263.24(c)(1))

(2) The extent to which the applicant proposes a fair and neutral process of selecting service providers that will result in high-quality options from which parents and students can select services. (5 points) (34 CFR 263.24(c)(2))

(3) The quality of the proposed plan to inform parents and students about available service choices under the project, and about the timeline for termination of the project. (5 points) (34 CFR 263.24(c)(3))

(4) The extent to which the goals, objectives, and outcomes to be achieved by the proposed project are clearly specified and measurable. (10 points) (34 CFR 75.210(c)(2)(i))

(b) Quality of project services (25 points). The Secretary considers the following factors in determining the quality of project services:

(1) The quality and sufficiency of strategies for ensuring equal access and treatment for eligible project participants who are members of groups that have traditionally been underrepresented based on race, color, national origin, gender, age, or disability. (3 points) (34 CFR 75.210(d)(2))

(2) The extent to which the project would offer high-quality choices of services, including culturally relevant services, and providers, for parents and students to select. (9 points) (34 CFR 263.24(b)(1))

(3) The extent to which the services to be offered would meet the needs of the local population, as demonstrated by an analysis of community-level data, including direct input from parents and families of Indian children and youth. (9 points) (34 CFR 263.24(b)(2))

(4) The quality of the plan to ensure that the services to be offered are evidence-based, where applicable, or are based on existing evidence-based programs that have been modified to be culturally appropriate for Indian students. (4 points) (34 CFR 263.24(b)(3))

(c) Reasonableness of budget (20 points). The Secretary considers the following factors in determining the reasonableness of the project budget:

(1) The extent to which the budget reflects the number of students to be served and a per-pupil amount for services, based only on direct costs for student services, that is reasonable in relation to the project objectives; (10 points) (34 CFR 263.24(d)(1))

(2) The extent to which the per-pupil costs of specific services and per-pupil funds available are transparent to parents and other stakeholders. (10 points) (34 CFR 263.24(d)(2))

(d) Quality of the management plan (30 points). In determining the quality of the management plan for the proposed project, the Secretary considers the following factors:

(1) The adequacy of the management plan to achieve the objectives of the proposed project on time and within budget, including clearly defined responsibilities, timelines, and milestones for accomplishing project tasks. (10 points) (34 CFR 75.210(g)(2)(i))

(2) The quality of the applicant's plan to oversee service providers and ensure that students receive high-quality services under the project. (20 points) (34 CFR 263.24(c)(4))

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary requires various assurances, including those applicable to Federal civil rights laws that prohibit discrimination in programs or activities receiving Federal financial assistance from the Department (34 CFR 100.4, 104.5, 106.4, 108.8, and 110.23).

3. Risk Assessment and Specific Conditions: Consistent with 2 CFR 200.205, before awarding grants under this program, the Department conducts a review of the risks posed by applicants. Under 2 CFR 3474.10, the Secretary may impose specific conditions and, in appropriate circumstances, high-risk conditions on a grant if the applicant or grantee is not financially stable; has a history of unsatisfactory performance; has a financial or other management system that does not meet the standards in 2 CFR part 200, subpart D; has not fulfilled the conditions of a prior grant; or is otherwise not responsible.

4. Integrity and Performance System: If you are selected under this competition to receive an award that over the course of the project period may exceed the simplified acquisition threshold (currently $250,000), under 2 CFR 200.205(a)(2) we must make a judgment about your integrity, business ethics, and record of performance under Federal awards—that is, the risk posed by you as an applicant—before we make an award. In doing so, we must consider any information about you that is in the integrity and performance system (currently referred to as the Federal Awardee Performance and Integrity Information System (FAPIIS)), accessible through the System for Award Management. You may review and comment on any information about yourself that a Federal agency previously entered and that is currently in FAPIIS.

Please note that, if the total value of your currently active grants, cooperative agreements, and procurement contracts from the Federal Government exceeds $10,000,000, the reporting requirements in 2 CFR part 200, Appendix XII, require you to report certain integrity information to FAPIIS semiannually. Please review the requirements in 2 CFR part 200, Appendix XII, if this grant plus all the other Federal funds you receive exceed $10,000,000.

VI. Award Administration Information

1. Award Notices: If your application is successful, we notify your U.S. Representative and U.S. Senators and send you a Grant Award Notification (GAN); or we may send you an email containing a link to access an electronic version of your GAN. We may notify you informally, also.

If your application is not evaluated or not selected for funding, we notify you.

2. Administrative and National Policy Requirements:

We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting:

(a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multiyear award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

(c) Under 34 CFR 75.250(b), the Secretary may provide a grantee with additional funding for data collection analysis and reporting. In this case the Secretary establishes a data collection period.

5. Performance Measures: The Department has established the following Government Performance and Results Act of 1993 (GPRA) performance measures for the Demonstration program:

(1) The total number of options from which participating students can choose.

(2) The number of options offered from which participating students can choose education-related services that are culturally relevant, as determined by the grantee.

(3) The number of grantees that meet their educational outcome objectives (e.g., decreased school suspension rates, increased graduation rates, increased school attendance, etc.), as defined by the grantee.

(4) The total number of students served.

(5) The percentage of parents who report that the number and variety of options offered meet their children's needs.

(6) The percentage of parents who report that the quality of options offered meet their children's needs.

(7) The average time it took a grantee to respond to requests for specific services.

(8) The percentage of parent requests for additional services that resulted in adding new services to the offerings.

These measures constitute the Department's indicators of success for this program. Consequently, we advise an applicant for a grant under this program to carefully consider these measures in conceptualizing the approach to, and evaluation for, its proposed project. Each grantee will be required to provide, in its annual performance and final reports, data about its progress in meeting these measures.

6. Continuation Awards: In making a continuation award under 34 CFR 75.253, the Secretary considers, among other things: Whether a grantee has made substantial progress in achieving the goals and objectives of the project; whether the grantee has expended funds in a manner that is consistent with its approved application and budget; and, if the Secretary has established performance measurement requirements, the performance targets in the grantee's approved application.

In making a continuation award, the Secretary also considers whether the grantee is operating in compliance with the assurances in its approved application, including those applicable to Federal civil rights laws that prohibit discrimination in programs or activities receiving Federal financial assistance from the Department (34 CFR 100.4, 104.5, 106.4, 108.8, and 110.23).

VII. Other Information

Accessible Format: Individuals with disabilities can obtain this document and a copy of the application package in an accessible format (e.g., braille, large print, audiotape, or compact disc) on request to the program contact person listed under FOR FURTHER INFORMATION CONTACT.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

Frank T. Brogan,
Assistant Secretary for Elementary and Secondary Education.

[FR Doc. 2020-15542 Filed 7-16-20; 8:45 am]

BILLING CODE 4000-01-P